DEPARTMENT OF THE INTERIOR

[RR04900000, 234R0787ZA, RX.Z8379000.BR00000]

Notice of Intent To Negotiate a Contract Between Utah Water Conservancy District and Department of the Interior for Payment of a Portion of the Central Utah Project, Bonneville Unit Import Water Stored in Utah Lake

AGENCY: Office of the Assistant Secretary for Water and Science, Interior.

ACTION: Notice of intent.

SUMMARY: The Central Utah Water Conservancy District intends to purchase up to 6,000 acre-feet of import water from the total quantity annually stored in Utah Lake. These return flows originate from the Bonneville Unit of the Central Utah Project.

DATES: A public meeting to negotiate a water service contract will be held at the Central Utah Water Conservancy District in Orem, Utah, at a date and time announced locally.

ADDRESSES: The public meeting will be held at the Central Utah Water Conservancy District Office, 1426 East 750 North, Suite 400, Orem, Utah 84097.

FOR FURTHER INFORMATION CONTACT: Additional information on matters related to this Federal Register notice can be obtained by contacting Mr. Wesley James, Program Coordinator, Central Utah Project Completion Act Office, Department of the Interior, 302 East Lakeview Parkway, Provo, Utah 84606; via telephone at (801) 379-1137; or by email at wsjames@usbr.gov.

SUPPLEMENTARY INFORMATION: Public Law 102-575, Central Utah Project Completion Act, section 207, provides for minimum inflows and meets statutory and environmental requirements for Central Utah Project (CUP), Bonneville Unit water into Utah Lake. CUP import water is delivered from Strawberry Reservoir, released into Spanish Fork River, Hobble Creek and Provo River and then stored in Utah Lake under subject water rights.

CUP import water is the result of the Strawberry/Utah Lake/Jordanelle exchange, providing storage of Provo River water in Jordanelle Reservoir which otherwise would naturally flow to Utah Lake. In return for this stored water, CUP water is delivered from Strawberry Reservoir to Utah Lake as CUP import water. CUP import water stored in Utah Lake in excess of the amount required for this exchange may be available for other purposes.

The Department of the Interior desires to make available to the Central Utah Water Conservancy District (District) up to 6,000 acre-feet of CUP import water stored in Utah Lake to be used by the District to offset the non-Federal Central Water Project Utah Lake Water depletions.

Section 9(c)(2) of the 1939 Reclamation Project Act provides for the Secretary of the Department of the Interior to enter into municipal & industrial water service contracts and to set the water charge rate at what is deemed reasonable and appropriate.

In accordance with Public Law 102-575, the District intends to purchase a portion of the return flows associated with the Bonneville Unit that are stored in Utah Lake. The terms of the payment are to be publicly negotiated between the District and the Department of the Interior.

Paul Christensen,
Program Director, Central Utah Project Completion Act Office, Department of the Interior.

[FR Doc. 2024-13764 Filed 6-24-24; 8:45 am]

BILLING CODE 4332-90-P